DEPARTMENT OF STATE

[Public Notice 6892]

Lifting of Nonproliferation Measures Against One Russian Entity

AGENCY: Department of State.

ACTION: Notice.

SUMMARY: A determination has been made, pursuant to Section 6 of Executive Order 12938 of November 14, 1994, as amended, to remove nonproliferation measures on one Russian entity.

DATES: Effective Date: February 4, 2010.

FOR FURTHER INFORMATION CONTACT: Pamela K. Durham, Office of Missile Threat Reduction, Bureau of International Security and Nonproliferation, Department of State (202-647-4930).

SUPPLEMENTARY INFORMATION: Pursuant to the authorities vested in the President by the Constitution and the laws of the United States of America, including the International Emergency Economic Powers Act (50 U.S.C. 1701 et seq.) (“IEEPA”), the National Emergencies Act (50 U.S.C. 1601 et seq.), the Arms Export Control Act (22 U.S.C. 2751 et seq.), and section 301 of title 3, United States Code, and Section 6 of Executive Order 12938 of November 14, 1994, as amended, a determination was made on January 26, 2010, that it is in the foreign policy and national security interests of the United States to remove the restrictions imposed pursuant to Sections 4(b), 4(c), and 4(d) of the Executive Order on the following Russian entity, its sub-units and successors:

1. Baltic State Technical University.

These restrictions were imposed on July 30, 1998 (see 63 FR 42089).

Dated: January 29, 2010.
C.S. Eliot Kang,
Acting Assistant Secretary of State for International Security and Nonproliferation.

[FR Doc. 2010-2418 Filed 2-3-10; 8:45 am]

BILLING CODE 4710-27-P